DEPARTMENT OF THE INTERIOR

National Park Service

[NPS-WASO-NRNHL-11808; 2200-3200-665]

National Register of Historic Places; Notification of Pending Nominations and Related Actions

Nominations for the following properties being considered for listing or related actions in the National Register were received by the National Park Service before November 24, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by January 7, 2013. Before including your address, phone number, email address, or other personal identifying information in your comment, you should be aware that your entire comment—including your personal identifying information—may be made publicly available at any time. While you can ask us in your comment to withhold your personal identifying information from public review, we cannot guarantee that we will be able to do so.

Dated: November 29, 2012.
Alexandra M. Lord,
Acting Chief, National Register of Historic Places/National Historic Landmarks Program.

ARIZONA

Pima County

Owen Homesite, (Tucson Health Seekers MPS) 1415 E. Prince Rd., Tucson, 12001142

Tucson Medical Center, (Tucson Health Seekers MPS), 5301 E. Grant Rd., Tucson, 12001143

CALIFORNIA

Napa County

Monte Vista and Diamond Mountain Vineyard, 2121 Diamond Mountain Rd., Calistoga, 12001144

GEORGIA

Lumpkin County

Blood Mountain Trail Shelter, Blood Mountain Wilderness Area, Blairsville, 12001145

ILLINOIS

Williamson County

Marion Veterans Administration Hospital Historic District, (United States Second Generation Veterans Hospitals MPS), 2401 W. Main St., Marion, 12001146

INDIANA

Allen County

Lafayette Place Historic District, (Historic Residential Suburbs in the United States, 1830-1960 MPS), Roughly bounded by S. Calhoun & Lafayette Sts., McKinnie & Pettit Aves., Fort Wayne, 12001147

Floyd County

Georgetown Historic District, Roughly bounded by Georgetown-Greenville Rd., Canal Ln., Walnut St. & unnamed alley, Georgetown, 12001148

Grant County

Meshingomesia Cemetery and Indian School Historic District, 3820 Co. Rd. 600 N., Jalapa, 12001149

Lake County

Lake County Sanatorium, Nurse's Home and Superintendent's Residence (Boundary Increase), 425 W. 93rd Ave., Crown Point, 12001150

Marshall County

Bremen Baltimore and Ohio Railroad Station, Jct. of Douglas Rd. & IN 106, Bremen, 12001151

Bremen Water Tower, W. side of 100 blk. of S. Jackson St., Bremen, 12001152

Polk Township District No. 2 School, 18998 W. 2A Rd., Walkerton, 12001153

Miami County

Peru High School Historic District, (Indiana's Public Common and High Schools MPS), 80 W. 6th St., Peru, 12001154

Ripley County

Milan Masonic Lodge No. 31, 312 Main St., Milan, 12001155

NORTH CAROLINA

Currituck County

Coinjock Colored School, 4358 Caratoke Hwy., Coinjock, 12001156

Durham County

Biddle, Mary Duke, Estate, 1044 & 1050 W. Forest Hills Blvd., Durham, 12001157

Hertford County

Uptown Suburbs Historic District, Roughly bounded by W. Lexington & Sunset Aves., Westchester Dr., Johnson & W. Ray Sts., High Point, 12001158

WASHINGTON

Clark County

Clark County Poor Farm—Southwestern Washington Experiment Station, 1919 NE. 78th St., Vancouver, 12001159

Mason County

Mason County Courthouse, 419 N. 4th St., Shelton, 12001160

San Juan County

Donohue, Michael and Myra, House, 1159 N. Beach Rd., Eastsound, 12001161

A request for removal has been made for the following resources:

WISCONSIN

Rock County

Leedle Mill Truss Bridge, SR 1, Evansville, 80000398

KANSAS

Ellis County

Krueger Building, 811 Fort St., Hays, 06000111

Saline County

Brookville Hotel, Perry St., Brookville, 72000525

[FR Doc. 2012-30758 Filed 12-20-12; 8:45 am]

BILLING CODE 4312-51-P